Title 3—

The President

Executive Order 14075 of June 15, 2022

Advancing Equality for Lesbian, Gay, Bisexual, Transgender, Queer, and Intersex Individuals

By the authority vested in me as President by the Constitution and the laws of the United States of America, it is hereby ordered as follows:

Section 1. Policy. Our Nation has made great strides in fulfilling the fundamental promises of freedom and equality for lesbian, gay, bisexual, transgender, queer, and intersex (LGBTQI+) Americans, owing to the leadership of generations of LGBTQI+ individuals. In spite of this historic progress, LGBTQI+ individuals and families still face systemic discrimination and barriers to full participation in our Nation's economic and civic life. These disparities and barriers can be the greatest for transgender people and LGBTQI+ people of color. Today, unrelenting political and legislative attacks at the State level—on LGBTQI+ children and families in particular—threaten the civil rights gains of the last half century and put LGBTQI+ people at risk. These attacks defy our American values of liberty and dignity, corrode our democracy, and threaten basic personal safety. They echo the criminalization that LGBTQI+ people continue to face in some 70 countries around the world. The Federal Government must defend the rights and safety of LGBTQI+ individuals.

It is therefore the policy of my Administration to combat unlawful discrimination and eliminate disparities that harm LGBTQI+ individuals and their families, defend their rights and safety, and pursue a comprehensive approach to delivering the full promise of equality for LGBTQI+ individuals, consistent with Executive Order 13988 of January 20, 2021 (Preventing and Combating Discrimination on the Basis of Gender Identity or Sexual Orientation).

The Federal Government must take action to address the significant disparities that LGBTQI+ youth face in the foster care system, the misuse of State and local child welfare agencies to target LGBTQI+ youth and families, and the mental health needs of LGBTQI+ youth. My Administration must safeguard LGBTQI+ youth from dangerous practices like so-called “conversion therapy”—efforts to suppress or change an individual's sexual orientation, gender identity, or gender expression—a discredited practice that research indicates can cause significant harm, including higher rates of suicide-related thoughts and behaviors by LGBTQI+ youth. The Federal Government must strengthen the supports for LGBTQI+ students in our Nation's schools and other education and training programs. It must also address the discrimination and barriers that LGBTQI+ individuals and families face by expanding access to comprehensive health care, including reproductive health; protecting the rights of LGBTQI+ older adults; and preventing and addressing LGBTQI+ homelessness and housing instability. Through these actions, the Federal Government will help ensure that every person—regardless of who they are or whom they love—has the opportunity to live freely and with dignity.

Sec. 2. Addressing Harmful and Discriminatory Legislative Attacks on LGBTQI+ Children, Youth, and Families. (a) The Secretary of Health and Human Services (HHS) shall, as appropriate and consistent with applicable law, use the Department of HHS's authorities to protect LGBTQI+ individuals' access to medically necessary care from harmful State and local laws and practices, and shall promote the adoption of promising policies and practices to support health equity, including in the area of mental health care, for LGBTQI+ youth and adults. Within 200 days of the date of this order, the Secretary of HHS shall develop and release sample policies for States to safeguard and expand access to health care for LGBTQI+ individuals and their families, including mental health services.

(b) The Secretary of Education shall, as appropriate and consistent with applicable law, use the Department of Education's authorities to support LGBTQI+ students, their families, educators, and other school personnel targeted by harmful State and local laws and practices, and shall promote the adoption of promising policies and practices to support the safety, well-being, and rights of LGBTQI+ students. Within 200 days of the date of this order, the Secretary of Education shall develop and release sample policies for supporting LGBTQI+ students' well-being and academic success in schools and educational institutions.

Sec. 3. Addressing Exposure to So-Called Conversion Therapy. (a) The Secretary of HHS shall establish an initiative to reduce the risk of youth exposure to so-called conversion therapy. As part of that initiative, the Secretary of HHS shall, as appropriate and consistent with applicable law:

(i) consider whether to issue guidance clarifying for HHS programs and services agencies that so-called conversion therapy does not meet criteria for use in federally funded health and human services programs;

(ii) increase public awareness of the harms and risks associated with so-called conversion therapy for LGBTQI+ youth and their families;

(iii) increase the availability of technical assistance and training to health care and social service providers on evidence-informed promising practices for supporting the health, including mental health, of LGBTQI+ youth, and on the dangers of so-called conversion therapy; and

(iv) seek funding opportunities for providers of evidence-based trauma-informed services to better support survivors of so-called conversion therapy.

(b) The Federal Trade Commission is encouraged to consider whether so-called conversion therapy constitutes an unfair or deceptive act or practice, and to issue such consumer warnings or notices as may be appropriate.

(c) To address so-called conversion therapy around the world, within 180 days of the date of this order, the Secretary of State, in collaboration with the Secretary of the Treasury, the Secretary of HHS, and the Administrator of the United States Agency for International Development, shall develop an action plan to promote an end to its use around the world. In developing the action plan, the Secretary of State shall consider the use of United States foreign assistance programs and the United States voice and vote in multilateral development banks and international development institutions of which the United States is a shareholder or donor to take appropriate steps to prevent the use of so-called conversion therapy, as well as to help ensure that United States foreign assistance programs do not use foreign assistance funds for so-called conversion therapy. To further critical data collection, the Secretary of State shall instruct all United States Embassies and Missions worldwide to submit additional information on the practice and incidence of so-called conversion therapy as part of the Country Reports on Human Rights Practices.

Sec. 4. Promoting Family Counseling and Support of LGBTQI+ Youth as a Public Health Priority of the United States. (a) “Family counseling and support programs” are defined for the purposes of this order as voluntary programs in which families and service providers may elect to participate that seek to prevent or reduce behaviors associated with family rejection of LGBTQI+ youth by providing developmentally appropriate support, counseling, or information to parents, families, caregivers, child welfare and school personnel, or health care professionals on how to support an LGBTQI+ youth's safety and well-being.

(b) The Secretary of HHS shall seek to expand the availability of family counseling and support programs in federally funded health, human services, and child welfare programs by:

(i) considering whether to issue guidance regarding the extent to which Federal funding under Title IV-B and IV-E of the Social Security Act, 42 U.S.C. Ch. 7, may be used to provide family counseling and support programs;

(ii) considering funding opportunities for programs that implement family counseling and support models;

(iii) considering opportunities through the Centers for Disease Control and Prevention (CDC) and the National Institutes of Health to increase Federal research into the impacts of family rejection and family support on the mental health and long-term well-being of LGBTQI+ individuals; and

(iv) ensuring that HHS data, investments, resources, and partnerships related to the CDC Adverse Childhood Experiences program address the disparities faced by LGBTQI+ children and youth.

Sec. 5. Addressing Discrimination and Barriers Faced by LGBTQI+ Children, Youth, Parents, Caretakers, and Families in the Child Welfare System and Juvenile Justice Systems. (a) The Secretary of HHS shall consider how to use the Department's authorities to strengthen non-discrimination protections on the basis of sex, including sexual orientation, gender identity, and sex characteristics, in its programs and services, consistent with Executive Order 13988 and applicable legal requirements.

(b) The Secretary of HHS shall direct the Assistant Secretary for Family Support to establish an initiative to partner with State child welfare agencies to help address and eliminate disparities in the child welfare system experienced by LGBTQI+ children, parents, and caregivers, including: the over-representation of LGBTQI+ youth in the child welfare system, including over-representation in congregate placements; disproportionately high rates of abuse, and placements in unsupportive or hostile environments faced by LGBTQI+ youth in foster care; disproportionately high rates of homelessness faced by LGBTQI+ youth who exit foster care; and discrimination faced by LGBTQI+ parents, kin, and foster and adoptive families. The initiative, as appropriate and consistent with applicable law, shall also take actions to:

(i) seek funding opportunities for programs and services that improve outcomes for LGBTQI+ children in the child welfare system;

(ii) provide increased training and technical assistance to State child welfare agencies and child welfare personnel on promising practices to support LGBTQI+ youth in foster care and LGBTQI+ parents and caregivers;

(iii) develop sample policies for supporting LGBTQI+ children, parents, and caregivers in the child welfare system;

(iv) promote equity and inclusion for LGBTQI+ foster and adoptive parents in their interactions with the child welfare system;

(v) evaluate the rate of child removals from LGBTQI+ families of origin, in particular families that include LGBTQI+ women of color, and develop proposals to address any disproportionate rates of child removals faced by such families;

(vi) assess and improve the responsible collection and use of data on sexual orientation and gender identity in the child welfare system to measure and address inequities faced by LGBTQI+ children, parents, and caregivers, while safeguarding the privacy, safety, and civil rights of LGBTQI+ youth; and

(vii) advance policies that help to prevent the placement of LGBTQI+ youth in foster and congregate care environments that will be hostile to their gender identity or sexual orientation.

(c) The Attorney General shall establish a clearinghouse within the Office of Juvenile Justice and Delinquency Prevention to provide effective training, technical assistance, and other resources for jurisdictions seeking to better serve LGBTQI+ youth using a continuum-of-care framework. The clearinghouse shall include juvenile justice and delinquency prevention programs addressing the needs, including mental health needs, of LGBTQI+ youth.

Sec. 6. Reviewing Eligibility Standards for Federal Benefits and Programs. (a) Within 180 days of the date of this order, the Secretary of HHS shall conduct a study on the impact that current Federal statutory and regulatory eligibility standards have on the ability of LGBTQI+ and other households as determined by the Secretary to access Federal benefits and programs for families, and shall produce a public report with findings and recommendations that could increase LGBTQI+ and such other households' participation in and eligibility for Federal benefits and programs for families.

(b) Within 100 days of the release of the recommendations required by subsection (a) of this section, the Director of the Office of Management and Budget (OMB) shall coordinate with executive departments and agencies (agencies) that administer programs that establish eligibility standards for participation by families to complete a review of agencies' current eligibility standards for families. Such agencies shall seek opportunities, consistent with applicable law, to adopt more inclusive eligibility standards in line with the recommendations in the report produced pursuant to subsection (a) of this section.

Sec. 7. Safeguarding Access to Health Care and Other Health Supports for LGBTQI+ Individuals. The Secretary of HHS shall establish an initiative to address the health disparities facing LGBTQI+ youth and adults, take steps to prevent LGBTQI+ suicide, and address the barriers and exclusionary policies that LGBTQI+ individuals and families face in accessing quality, affordable, comprehensive health care, including mental health care, reproductive health care, and HIV prevention and treatment. As part of that initiative, the Secretary of HHS shall, as appropriate and consistent with applicable law:

(a) seek funding opportunities related to health, including mental health, for LGBTQI+ individuals, especially youth, including resources for the Nation's suicide prevention and crisis support services to support LGBTQI+ individuals;

(b) promote expanded access to comprehensive health care for LGBTQI+ individuals, including by working with States on expanding access to gender-affirming care;

(c) issue guidance through the Substance Abuse and Mental Health Services Administration and the Office of the Assistant Secretary for Health, within 100 days of the date of this order, on providing evidence-informed mental health care and substance use treatment and support services for LGBTQI+ youth; and

(d) develop and issue a report, within 1 year of the date of this order, and after consultation with medical experts, medical associations, and individuals with lived expertise, on promising practices for advancing health equity for intersex individuals.

Sec. 8. Supporting LGBTQI+ Students in our Nation's Schools and Educational Institutions. The Secretary of Education shall establish a Working Group on LGBTQI+ Students and Families, which shall lead an initiative to address discrimination against LGBTQI+ students and strengthen supports for LGBTQI+ students and families. Through that Working Group, the Secretary of Education shall, as appropriate and consistent with applicable law:

(a) review, revise, develop, and promote guidance, technical assistance, training, promising practices, and sample policies for States, school districts, and other educational institutions to promote safe and inclusive learning environments in which all LGBTQI+ students thrive and to address bullying of LGBTQI+ students;

(b) identify promising practices for helping to ensure that school-based health services and supports, especially mental health services, are accessible to and supportive of LGBTQI+ students;

(c) seek funding opportunities for grantees and programs that will improve educational and health outcomes, especially mental health outcomes, for LGBTQI+ students and other underserved students; and

(d) seek to strengthen supportive services for LGBTQI+ students and families experiencing homelessness, including those provided by the National Center for Homeless Education.

Sec. 9. Preventing and Ending LGBTQI+ Homelessness and Housing Instability. (a) The Secretary of Housing and Urban Development (HUD) shall establish a Working Group on LGBTQI+ Homelessness and Housing Equity, which shall lead an initiative that aims to prevent and address homelessness and housing instability among LGBTQI+ individuals, including youth, and households. As part of that initiative, the Secretary of HUD shall, as appropriate and consistent with applicable law:

(i) identify and address barriers to housing faced by LGBTQI+ individuals, including youth, and families that place them at high risk of housing instability and homelessness;

(ii) provide guidance and technical assistance to HUD contractors, grantees, and programs on effectively and respectfully serving LGBTQI+ individuals, including youth, and families;

(iii) develop and provide guidance, sample policies, technical assistance, and training to Continuums of Care, established pursuant to HUD's Continuum of Care Program; homeless service providers; and housing providers to improve services and outcomes for LGBTQI+ individuals, including youth, and families who are experiencing or are at risk of homelessness, and to ensure compliance with the Fair Housing Act, 42 U.S.C. 3601 et seq., and HUD's 2012 and 2016 Equal Access Rules; and

(iv) seek funding opportunities, including through the Youth Homelessness Demonstration Program, for culturally appropriate services that address barriers to housing for LGBTQI+ individuals, including youth, and families, and the high rates of LGBTQI+ youth homelessness.

(b) The Secretary of HHS, through the Assistant Secretary for Family Support, shall, as appropriate and consistent with applicable law:

(i) use agency guidance, training, and technical assistance to implement non-discrimination protections on the basis of sexual orientation and gender identity in programs established pursuant to the Runaway and Homeless Youth Act (Public Law 110-378), and ensure that such programs address LGBTQI+ youth homelessness; and

(ii) coordinate with youth advisory boards funded through the Runaway and Homeless Youth Training and Technical Assistance Center and the National Runaway Safeline to seek input from LGBTQI+ youth who have experienced homelessness on improving federally funded services and programs.

Sec. 10. Strengthening Supports for LGBTQI+ Older Adults. The Secretary of HHS shall address discrimination, social isolation, and health disparities faced by LGBTQI+ older adults, including by:

(a) developing and publishing guidance on non-discrimination protections on the basis of sex, including sexual orientation, gender identity, and sex characteristics, and other rights of LGBTQI+ older adults in long-term care settings;

(b) developing and publishing a document parallel to the guidance required by subsection (a) of this section in plain language, titled “Bill of Rights for LGBTQI+ Older Adults,” to support LGBTQI+ older adults and providers in understanding the rights of LGBTQI+ older adults in long-term care settings;

(c) considering whether to issue a notice of proposed rulemaking to clarify that LGBTQI+ individuals are included in the definition of “greatest social need” for purposes of targeting outreach, service provision, and funding under the Older Americans Act, 42 U.S.C. 3001 et seq.; and

(d) considering ways to improve and increase appropriate data collection on sexual orientation and gender identity in surveys on older adults, including by providing technical assistance to States on the collection of such data.

Sec. 11. Promoting Inclusive and Responsible Federal Data Collection Practices. (a) Advancing equity and full inclusion for LGBTQI+ individuals requires that the Federal Government use evidence and data to measure and address the disparities that LGBTQI+ individuals, families, and households face, while safeguarding privacy, security, and civil rights.

(b) To advance the responsible and effective collection and use of data on sexual orientation, gender identity, and sex characteristics (SOGI data), the Co-Chairs of the Interagency Working Group on Equitable Data established in Executive Order 13985 of January 20, 2021 (Advancing Racial Equity and Support for Underserved Communities Through the Federal Government), shall, within 30 days of the date of this order, establish a subcommittee on SOGI data to coordinate with agencies on strengthening the Federal Government's collection of SOGI data to advance equity for LGBTQI+ individuals. Within 120 days of the date of this order, the subcommittee shall, in coordination with the Director of OMB, develop and release a Federal Evidence Agenda on LGBTQI+ Equity, which shall:

(i) describe disparities faced by LGBTQI+ individuals that could be better understood through Federal statistics and data collection;

(ii) identify, in coordination with agency Statistical Officials, Chief Science Officers, Chief Data Officers, and Evaluation Officers, Federal data collections where improved SOGI data collection may be important for advancing the Federal Government's ability to measure disparities facing LGBTQI+ individuals; and

(iii) identify practices for all agencies engaging in SOGI data collection to follow in order to safeguard privacy, security, and civil rights, including with regard to appropriate and robust practices of consent for the collection of this data and restrictions on its use or transfer.

(c) Within 200 days of the date of this order, the head of each agency that conducts relevant programs or statistical surveys related to the Federal Evidence Agenda on LGBTQI+ Equity shall submit to the Co-Chairs of the Interagency Working Group on Equitable Data a SOGI Data Action Plan, which shall detail how the agency plans to use SOGI data to advance equity for LGBTQI+ individuals and shall identify how the agency plans to implement the recommendations in the Federal Evidence Agenda on LGBTQI+ Equity.

(d) To support implementation of agency SOGI Data Action Plans, the head of each agency shall include in the agency's annual budget submission to the Director of OMB a request for any necessary funding increases to support improved SOGI data practices.

(e) Within 180 days of the date of this order, to support agencies in appropriately collecting and using SOGI data, the Director of OMB, through the Chief Statistician of the United States, shall publish a report with recommendations for agencies on the best practices for the collection of SOGI data on Federal statistical surveys, including strategies to preserve data privacy and safety.

(f) On an annual basis, the Director of OMB, through the Chief Statistician of the United States, shall evaluate the efficacy of SOGI data practices across agencies, and shall consider whether to update reports, guidance, or directives based upon the latest evidence and research as needed.

Sec. 12. Reporting. Within 1 year of the date of this order:

(a) The Attorney General shall submit a report to the President through the Assistant to the President for Domestic Policy (APDP) detailing progress in implementing section 5 of this order;

(b) The Secretary of HHS shall submit a report to the President through the APDP detailing progress in implementing sections 2 through 7 and 9 through 11 of this order;

(c) The Secretary of Education shall submit a report to the President through the APDP detailing progress in implementing sections 2, 8, and 11 of this order;

(d) The Secretary of HUD shall submit a report to the President through the APDP detailing progress in implementing sections 9 and 11 of this order;

(e) The Secretary of State shall submit a report to the President through the APDP detailing progress in implementing section 3 of this order;

(f) The Director of OMB shall submit a report to the President through the APDP detailing progress in implementing sections 6 and 11 of this order; and

(g) The Director of OMB, through the Chief Statistician of the United States, shall submit a report to the President through the APDP detailing progress in implementing section 11 of this order.

Sec. 13. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 15, 2022.

[FR Doc. 2022-13391

Filed 6-17-22; 11:15 am]

Billing code 3395-F2-P